DEPARTMENT OF HOUSING AND URBAN DEVELOPMENT

[Docket No. FR-4497-N-09]

RIN 2577-AC08

Public Housing Assessment System (PHAS); Notice of PHAS Transition Assistance for Certain PHAs Concerning PHA Inspection of Occupied Units

AGENCY: Office of the Assistant Secretary for Public and Indian Housing, and Office of the Director of the Real Estate Assessment Center, HUD.

ACTION: Notice.

SUMMARY: This document notifies public housing agencies (PHAs) with fiscal years ending September 30, 2000, December 31, 2000, March 31, 2001, and June 30, 2001, that they may conduct annual physical inspections of their units in accordance with HUD's Housing Quality Standards.

FOR FURTHER INFORMATION CONTACT: For further information contact the Real Estate Assessment Center (REAC), Attention: Wanda Funk, U. S. Department of Housing and Urban Development, 1280 Maryland Avenue, SW, Suite 800, Washington DC, 20024; telephone Technical Assistance Center at (888)-245-4860 (this is a toll free number). Persons with hearing or speech impairments may access that number via TTY by calling the Federal Information Relay Service at (800) 877-8339. Additional information is available from the REAC Internet Site, http://www.hud.gov/reac.

SUPPLEMENTARY INFORMATION:

I. Background

On January 11, 2000 (65 FR 1712), HUD issued a final rule, as amended June 6, 2000 (65 FR 36042), that made certain amendments to the Public Housing Assessment System (PHAS) regulations. The PHAS was implemented by final regulations published on September 1, 1998. The amendments published to the PHAS regulations on January 11, 2000, followed a proposed rule published on June 22, 1999, and were prompted by both statutory and administrative changes to the PHAS.

II. Additional Transition Assistance to Certain PHAs

Following publication of the January 11, 2000, final rule, HUD was asked to provide further transition assistance to PHAs with fiscal years ending March 31, 2000, and June 30, 2000, by allowing these PHAs to inspect occupied units in accordance with HUD's Housing Quality Standards (HQS). Under sub-indicator #3 of PHAS Indicator #3, Management Operations, PHAs are assessed on the percentage of units and systems that a PHA inspects on an annual basis in order to determine short-term maintenance needs and long-term Capital Fund needs. PHAs must inspect these units in accordance with HUD's Uniform Physical Condition Standards (UPSC). In a June 6, 2000 (65 FR 36047) notice, HUD advised PHAs with fiscal years ending March 31, 2000 and June 30, 2000, of the extended transition assistance permitting these PHAs to inspect their units in accordance with HQS because HUD only recently released its physical inspection and training guidebook.

Through this notice, HUD advises that it will further extend the transition assistance provided in the June 6, 2000, notice to PHAs with fiscal years ending September 30, 2000, December 31, 2000, March 31, 2001, and June 30, 2001. All PHAs with fiscal years ending on or after September 30, 2001, must inspect units in accordance with HUD's UPCS.

Dated: October 16, 2000.
Harold Lucas,
Assistant Secretary for Public and Indian Housing.
Donald J. LaVoy,
Director, Real Estate Assessment Center.

[FR Doc. 00-27188 Filed 10-23-00; 8:45 am]

BILLING CODE 4210-33-P